DEPARTMENT OF COMMERCE

National Oceanic and Atmospheric Administration

[I.D. 021805E]

Fisheries of the South Atlantic; Southeastern Data, Assessment, and Review (SEDAR); Public Meeting

AGENCY: National Marine Fisheries Service (NMFS), National Oceanic and Atmospheric Administration (NOAA), Commerce.

ACTION: Notice of the SEDAR black sea bass assessment workshop.

SUMMARY: The benchmark assessment of the South Atlantic black sea bass stock, completed in 2003 by SEDAR 2, will be updated with recent data during an assessment workshop to be held in Beaufort, NC.

DATES: The SEDAR South Atlantic black sea bass update assessment workshop will be held March 15, 2005, beginning at 8:30 a.m., through March 17, 2005, ending by 2 p.m.

ADDRESSES: The workshop will be held at the NOAA Center for Coastal Fisheries and Habitat Research, 101 Pivers Island Road Beaufort, NC 28516.

FOR FURTHER INFORMATION CONTACT: John Carmichael, SEDAR Coordinator, South Atlantic Fishery Management Council, One Southpark Circle, Suite 306, Charleston, SC 29407; telephone: (843) 571-4366 or toll free (866) SAFMC-10; fax: (843) 769-4520.

SUPPLEMENTARY INFORMATION: The baseline assessment developed by SEDAR 2 will be updated with catch, biosampling, and survey data through 2003. Workshop panelists will prepare an assessment update report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Council office (see ADDRESSES) by February 25, 2005.

Dated: February 22, 2005.
Alan D. Risenhoover,
Acting Director, Office of Sustainable Fisheries, National Marine Fisheries Service.

[FR Doc. E5-768 Filed 2-24-05; 8:45 am]

BILLING CODE 3510-22-S